DEPARTMENT OF AGRICULTURE

Agricultural Marketing Service

7 CFR Part 51

[Doc. No. AMS-SC-23-0009]

RIN 0581-AE32

Section 8e Import Inspection Fee Structure

AGENCY: Agricultural Marketing Service, USDA.

ACTION: Final rule; delay of effective date.

SUMMARY: This document delays the effective date of the December 30, 2024, final rule revising the regulations governing the inspection and certification for fresh fruits, vegetables, and other products by amending certain fees charged for Section 8e import inspections. These revisions recover, as nearly as practicable, the costs of performing inspection services on imported commodities in accordance with the Agricultural Marketing Agreement Act of 1937.

DATES: As of January 29, 2025, the effective date of the final rule amending 7 CFR part 51, published on December 30, 2024 (89 FR 106231), is delayed until March 20, 2025.

FOR FURTHER INFORMATION CONTACT: The Standardization Branch, Specialty Crops Inspection Division, Specialty Crops Program, Agricultural Marketing Service, U.S. Department of Agriculture, National Training and Development Center; 100 Riverside Parkway, Suite 101; Fredericksburg, Virginia 22406; fax: (540) 361-1199, or via the internet at: https://www.regulations.gov.

SUPPLEMENTARY INFORMATION: In accordance with the memorandum of January 20, 2025, from the President to executive departments and agencies, entitled “Regulatory Freeze Pending Review,” ¹ this document temporarily delays the effective date of the rule titled, “Section 8e Import Inspection Fee Structure,” which was published in the Federal Register on December 30, 2024 (89 FR 106231). The rule revised the regulations concerning fees charged for Section 8e import inspections from a per-carlot basis to a per-pound basis, reducing the fee for each additional sublot by 50 percent, and establishing a new fee calculation for lots less than a carlot. These revisions would enable AMS to recover, as nearly as practicable, the costs of performing inspection services on imported fresh fruits, vegetables, and other products in accordance with the Agricultural Marketing Agreement Act of 1937.

¹ https://www.whitehouse.gov/presidential-actions/2025/01/regulatory-freeze-pending-review/.

This action is exempt from notice and comment under 5 U.S.C. 553 and is applicable immediately upon publication in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication.

Erin Morris,
Associate Administrator, Agricultural Marketing Service.

[FR Doc. 2025-01903 Filed 1-24-25; 4:15 pm]

BILLING CODE P